DEPARTMENT OF COMMERCE

National Oceanic and Atmospheric Administration

[I.D. 090203B]

Pacific Fishery Management Council; Notice of Intent

AGENCY: National Marine Fisheries Service (NMFS), National Oceanic and Atmospheric Administration (NOAA), Commerce.

ACTION: Notice of intent to prepare an environmental impact statement (EIS); request for written comments; notice of public scoping meetings.

SUMMARY: NMFS and the Pacific Fishery Management Council (Council) intend to prepare an EIS in accordance with the National Environmental Policy Act of 1969 analyzing the adoption of rebuilding plans for four overfished groundfish species: cowcod (Sebastes levis), bocaccio (S. paucispinis), widow rockfish (S. entomelas), and yelloweye rockfish (S. ruberrimus). The proposed action is to adopt these rebuilding plans as Amendment 16-3 to the Pacific Coast Groundfish Fishery Management Plan (Groundfish FMP) and adds key rebuilding targets to Federal groundfish regulations. This approach is consistent with the framework for rebuilding overfished species established in Amendment 16-1, which is currently under Secretarial review.

DATES: A public scoping meeting for the Amendment 16-3 EIS is scheduled for Sunday, November 2, 2003, from 3 p.m. to 5 p.m. in conjunction with the Council's November 3-7, 2003, meeting (see SUPPLEMENTARY INFORMATION). Written comments will be accepted at the Council office through November 10, 2003.

ADDRESSES: Written comments on issues and alternatives to be addressed in the Amendment 16-3 EIS should be sent to Dr. Donald McIsaac, Pacific Fishery Management Council, 7700 NE Ambassador Pl., Suite 200, Portland OR, 97220.

Comments also may be sent via email to pfmc.comments@noaa.gov (enter “Amendment 16-3 EIS scoping” in the subject line) or facsimile (fax) to 503-820-2299.

FOR FURTHER INFORMATION CONTACT: Matthew Harrington, NMFS, Northwest Region; telephone: 206-526-4742, fax: 206-526-6426 and e-mail: matthew.harrington@noaa.gov; or Kit Dahl, Pacific Fishery Management Council; telephone: 503-820-8220 or 866-806-7204 (toll free), fax: 503-820-2299 and email: kit.dahl@noaa.gov.

SUPPLEMENTARY INFORMATION: NMFS and the Council published a notice of intent to prepare an EIS evaluating rebuilding plans for overfished groundfish at 67 FR 18576 on April 16, 2002. Rebuilding measures apply to groundfish species that have been declared overfished by the U.S. Secretary of Commerce pursuant to the Magnuson-Stevens Fishery Conservation and Management Act (Magnuson-Stevens Act), and these measures must be consistent with the provisions of Section 304(e) of the Magnuson-Stevens Act. At that time, NMFS and the Council planned to prepare a single EIS evaluating both the framework for adopting rebuilding plans and the adopted rebuilding plans themselves. A subsequent notice of intent, published in the Federal Register on March 18, 2003, (68 FR 12888) announced that separate analyses would be prepared: an environmental assessment (EA) for the framework portion of the action and one or more EISs for the rebuilding plans themselves. This approach facilitates rebuilding plan adoption for two reasons. First, the framework, which establishes procedures and standards, was not anticipated to result in significant impacts to the human environment. Therefore, the proposed action could be evaluated in an EA. Completing Council decision-making on this framework would provide greater certitude about the process and standards to be subsequently used in adopting rebuilding plans. Second, not all the scientific analyses needed to prepare rebuilding plans were completed simultaneously. Rather than waiting and delaying adoption of rebuilding plans, several amendments were planned based on the availability of stock assessments and scientific analyses. The framework is established in Amendment 16-1, which is currently under Secretarial review published in the Federal Register on August 18, 2003, at (68 FR 49415). The Council prepared an EIS for Amendment 16-2, that adopts rebuilding plans for four species: canary rockfish (Sebastes pinniger), darkblotched rockfish (S. crameri), Pacific ocean perch (S. alutus), and lingcod (Ophidon elongatus). The Amendment 16-2 draft EIS (DEIS) is scheduled to be available for a 45-day public comment period beginning on September 19, 2003.

Amendment 16-3 will adopt rebuilding plans for four overfished groundfish species: cowcod (Sebastes levis), bocaccio (S. paucispinis), widow rockfish (S. entomelas), and yelloweye rockfish (S. ruberrimus). The rebuilding plan for Pacific whiting (Merluccius productus), the final groundfish species to be declared overfished to date, will be adopted in a subsequent FMP amendment.

Alternatives

According to the rebuilding plan framework, certain elements of rebuilding plans must be incorporated into the Groundfish FMP and Federal groundfish regulations. These include strategic rebuilding parameters, which are subject to policy decisions made by the Council. These parameters reflect the tradeoff between rebuilding the stock in as short a time period as possible and the needs of fishing communities and the interaction of the stock with the marine ecosystem. Rebuilding means returning a fish stock to a size and structure capable of supporting maximum sustainable yield (or the highest level of harvest that can occur on a continuing basis). There are three such strategic rebuilding parameters. The first is the harvest control rule, which expresses a given fishing mortality rate over the course of rebuilding the stock. The second is, for a given fishing mortality rate, the probability that the stock will be rebuilt in the maximum time period allowed under National Standard 1 guidelines (50 CFR 600.310(e)(4)(ii)), or the “rebuilding probability.” The third is a “target year,” which is defined as the year in which there is a 50 percent likelihood that the stock will have been rebuilt, for a given fishing mortality rate. For any given fishing mortality rate, there is a unique value for the rebuilding probability and the related target year. However, in developing their strategy, policymakers can choose any one of the three strategic parameters, recognizing that choosing one parameter will determine the value of the other two parameters.

The alternatives in the Amendment 16-2 EIS present the choice of rebuilding strategies in terms of rebuilding probabilities for each of the overfished species. It is likely that the alternatives in Amendment 16-3 will be similarly structured. Once the strategic parameters are chosen, they will be used to determine annual harvest levels, or optimum yield (OY) values for overfished species. A rebuilding strategy also includes the management measures necessary to constrain fishing mortality to the OY. However, new management measures will not be incorporated into the FMP through Amendment 16-3. Instead, existing management measures, which are part of the Groundfish FMP management framework, will be used to manage total fishing mortality. These measures are implemented periodically, through a harvest specification process. (To date, this harvest specification process has occurred annually. Beginning in 2005, it will switch to a biennial cycle.) This approach is considered more adaptive, because management measures can be regularly adjusted in response to new information about the status of stocks.

Preliminary Identification of Environmental Issues

A principal objective of the scoping and public input process is to identify potentially significant impacts to the human environment that should be analyzed in depth in the EIS. Council and NMFS staff conducted initial screening to identify potentially significant impacts resulting from the proposed action. These impacts relate to the likelihood that overfished stocks will rebuild and, generally, effects stemming from the need to constrain fishing in order to rebuild overfished groundfish stocks. Impacts to the following components of the biological and physical environment may be evaluated: (1) essential fish habitat and ecosystem; (2) protected species listed under the Endangered Species Act and Marine Mammal Protection Act and their critical habitat; and (3) the fishery management unit, including target and non-target fish stocks, and especially overfished groundfish stocks. Socioeconomic impacts are also considered in terms of the effect changes in projected harvests will have on the following groups of individuals: (1) those who participate in harvesting the fishery resources and other living marine resources; (2) those who process and market fish and fish products; (3) those who are involved in allied support industries; (4) those who consume fish products; (5) those who rely on living marine resources in the management area, either for subsistence needs or for recreational benefits; (6) those who benefit from non-consumptive uses of living marine resources; (7) those involved in managing and monitoring fisheries; and (8) fishing communities.

Scoping

A public scoping meeting is scheduled for Sunday, November 2, 2003, from 3 p.m. to 5 p.m. This scoping session will coincide with the Council meeting and will occur at the same location, the Hilton San Diego/Del Mar, 15575 Jimmy Durante Blvd., Del Mar, CA 92014-1901 (858-792-5200). The primary purpose of the scoping meeting is to focus the analysis on the real issues and concerns of the public (see 40 CFR 1500.5(d) and 40 CFR 1501.7). Public comment also may be made during the November Council meeting (November 3-7, 2003), under the agendum when the Council will consider the proposed action. The agenda for this meeting will be available from the Council website or by request from Council offices in advance of the meeting (see ADDRESSES). The agenda will also identify the room in which the Sunday scoping meeting will occur. Written comments on the scope of issues and alternatives may be submitted as described under ADDRESSES.

NMFS invites comments and suggestions on the scope of the analysis to be included in the environmental impact statement for Amendment 16-3. The scope includes the range of alternatives to be considered and potentially significant impacts to the human environment that should be evaluated in the EIS. In addition, NMFS is notifying the public that, in conjunction with the Council, it is beginning a full environmental analysis and decision-making process for this proposal so that interested or affected people may know how they can participate in the environmental analysis and contribute to the final decision.

A draft environmental impact statement (DEIS) will be prepared for comment later on in the process. The comment period on the DEIS will be 45 days from the date the Environmental Protection Agency's notice of availability appears in the Federal Register. It is very important that those interested in this proposed action participate at that time.

To be the most helpful, comments on the DEIS should be as specific as possible. Comments received during the scoping process, including the names and addresses of those who comment, will be considered part of the public record on this proposal and will be available for public inspection.

Special Accommodations

These meetings are accessible to people with physical disabilities. Requests for sign language interpretation or other auxiliary aids should be directed to Carolyn Porter at 503-820-2280 at least five days prior to the scheduled meeting date.

Authority: 16 U.S.C. 1801 et seq.

Dated: September 5, 2003.
Bruce C. Morehead,
Acting Director, Office of Sustainable Fisheries, National Marine Fisheries Service.

[FR Doc. 03-23203 Filed 9-11-03; 8:45 am]

BILLING CODE 3510-22-S